FEDERAL COMMUNICATIONS COMMISSION

47 CFR Part 73

[DA 00-602, MM Docket No. 95-83, RM-8558]

Radio Broadcasting Services; Littlefield, Wolfforth and Tahoka, TX

AGENCY: Federal Communications Commission.

ACTION: Final rule; petition for reconsideration.

SUMMARY: This document grants the Petition for Partial Reconsideration filed by 21st Century Radio Ventures, Inc. by substituting Channel 278A for Channel 237A at Tahoka. See 62 FR 14092 (March 25, 1997). In the Report and Order, the Commission took no action in Littlefield, Wolfforth or on the issue of the deletion or substitution of Channel 237A at Tahoka. Channel 278A can be allotted to Tahoka in compliance with the Commission's minimum distance separation requirements. The coordinates for Channel 278A at Tahoka are North Latitude 33-11-34 and West Longitude 101-44-44. With this action this proceeding is terminated.

EFFECTIVE DATE: May 3, 2000.

FOR FURTHER INFORMATION CONTACT: Arthur D. Scrutchins, Mass Media Bureau, (202) 418-2180.

SUPPLEMENTARY INFORMATION: This is a synopsis of the Commission's Memorandum Opinion and Order, MM Docket No. 95-83, adopted March 8, 2000 and released March 20, 2000. The full text of this Commission decision is available for inspection and copying during normal business hours in the FCC Reference Information Center (Room CY-A257) at its headquarters, 445 12th Street, SW. Washington, D.C. The complete text of this decision may also be purchased from the Commission's copy contractors, International Transcription Service, Inc., (202) 857-3800, 1231 20th Street, N.W. Washington, D.C. 20036.

List of Subjects in 47 CFR Part 73

Radio broadcasting.

Part 73 of Title 47 of the Code of Federal Regulations is amended as follows:

PART 73—[AMENDED]

1. The authority citation for Part 73 continues to read as follows:

Authority: Sections 303, 48 Stat., as amended, 1082; 47 U.S.C. 154, as amended.

§ 73.202 [Amended]

2. Section 73.202(b), the Table of FM Allotments under Texas is amended by removing Channel 237A and adding Channel 278A to Tahoka.

Federal Communications Commission.
John A. Karousos,
Chief, Allocations Branch, Policy and Rules Division, Mass Media Bureau.

[FR Doc. 00-10755 Filed 5-1-00; 8:45 am]

BILLING CODE 6712 -01-P